NUCLEAR REGULATORY COMMISSION

[Docket Nos. 50-335 and 50-389]

Florida Power and Light Company, et al., St. Lucie Plant, Unit Nos. 1 and 2; Environmental Assessment and Finding of No Significant Impact

The U.S. Nuclear Regulatory Commission (NRC) is considering issuance of amendments to Facility Operating License Nos. DPR-67 and NPF-16, issued to Florida Power and Light Company, et al. (the licensee), for operation of the St. Lucie Plant, Unit Nos. 1 and 2, respectively, located in St. Lucie County, Florida. Therefore, as required by 10 CFR 51.21, the NRC is issuing this environmental assessment and finding of no significant impact.

Environmental Assessment

Identification of the Proposed Action

The proposed action would increase the wet storage capacity of fuel assemblies at the St. Lucie Plant, Units 1 and 2. A freestanding fuel storage rack module would be installed in the cask pit in each unit's fuel-handling building. The Unit 1 rack is being designed to augment storage capacity from 1706 fuel assemblies to 1849 fuel assemblies, an increase of 143 fuel assemblies. The Unit 2 rack design has closer assembly-to-assembly spacing than the Unit 1 rack and is capable of storing 225 fuel assemblies. The storage capacity of Unit 2 will increase from 1360 fuel assemblies to 1585 fuel assemblies, an increase of 225 fuel assemblies. The cask pit fuel storage racks will use Boral as a neutron absorbing poison.

The proposed action is in accordance with the licensee's application for amendments dated October 23, 2002, as supplemented August 28 and December 11, 2003, and February 3 and March 25, 2004.

The Need for the Proposed Action

The St. Lucie nuclear plant has two pressurized-water reactors. Unit 1 commenced operation in 1976 and Unit 2 in 1983. Based on the current licensed capacity, current spent fuel inventory, and the projected discharges of spent fuel, Unit 1 will lose the capability to fully offload the reactor core by the year 2005. Unit 2 will lose the capability to fully offload the reactor core by the year 2007. To extend this capability beyond the above dates, the licensee has proposed license amendments to install a freestanding fuel storage rack module in the cask pit of each unit's fuel-handling building.

The additional storage capacity provided by the cask pit racks will be used to store spent fuel to allow refueling outage fuel offloads and non-outage fuel shuffles. In addition, the Unit 1 cask pit rack will be used to temporarily store new fuel before an outage, prior to loading into the reactor core. The capability to remove, clean, and store the cask pit racks in an alternate location prior to any spent fuel cask loading operations will be maintained, because the cask pits will eventually be needed for loading fuel into transfer casks.

Environmental Impacts of the Proposed Action

The NRC has completed its evaluation and concludes, as set forth below, that there are no significant environmental impacts associated with the proposed amendments. The details of the staff's safety evaluation will be provided in the license amendments when they are issued by the NRC.

During refueling outages, there may be a slight increase in the amount of heat that has to be removed from the combination of the spent fuel pool and the cask pit. The peak increase will be less than one percent, and the heat load from spent fuel storage is very small compared to the heat load from normal plant operations. Therefore, the overall increase in the amount of heat released will be quite small and insignificant.

Even though additional boron poison will be introduced by the Boral panels in the storage racks in the cask pit, no significant increase in tritium production from the neutron capture by boron-10 is expected.

The proposed action will not significantly increase the probability or consequences of accidents, no changes are being made in the types of effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in the Final Environmental Statement related to the St. Lucie Plant Unit 1, dated June 1973; the Final Environmental Statement related to the operation of St. Lucie Plant, Unit No. 2 (NUREG-0842), dated April 1982; and Supplement 11 to NUREG-1437, “Generic Environmental Impact Statement for License Renewal of Nuclear Plants Regarding St. Lucie, Units 1 and 2,” dated May 2003.

Agencies and Persons Consulted

On May 19, 2004, the staff consulted with the Florida State official, William Passetti of the Department of Health, Bureau of Radiation Control, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated October 23, 2002, as supplemented by letters dated August 28 and December 11, 2003, and February 3 and March 25, 2004. Documents may be examined, and/or copied for a fee, at the NRC's Public Document Room (PDR), located at One White Flint North, Public File Area 01F21, 11555 Rockville Pike (first floor), Rockville, Maryland. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff at 1-800-397-4209, or 301-415-4737, or send an e-mail to pdr@nrc.gov.

Dated in Rockville, Maryland, this 2nd day of July 2004.
For the Nuclear Regulatory Commission.
Brendan T. Moroney,
Project Manager, Section 2, Project Directorate II, Division of Licensing Project Management, Office of Nuclear Reactor Regulation.

[FR Doc. 04-15594 Filed 7-8-04; 8:45 am]

BILLING CODE 7590-01-P